NATIONAL SCIENCE FOUNDATION

Advisory Committee for Engineering; Notice of Meeting

In accordance with the Federal Advisory Committee Act (Pub. L. 92-463, as amended), the National Science Foundation (NSF) announces the following meeting:

Name and Committee Code: Advisory Committee for Engineering (#1170)—Hybrid Meeting.

Date and Time: April 4, 2024; 10:00 a.m.-6:00 p.m. (Eastern); April 5, 2024; 8:30 a.m.-1:00 p.m. (Eastern).

Place: NSF, 2415 Eisenhower Avenue, Alexandria, VA 22314/Hybrid.

Type of Meeting: Open.

Contact Persons: Don Millard, National Science Foundation, 2415 Eisenhower Avenue, Alexandria, VA 22314; Telephone: (703) 292-8300.

Additional meeting information, an updated agenda, and registration information will be posted at https://www.nsf.gov/eng/advisory.jsp.

Purpose of Meeting: To provide advice, recommendations and counsel on major goals and policies pertaining to engineering programs and activities.

Agenda

Thursday, April 4, 2024

• Welcome

• Directorate for Engineering Report

• NSF Budget Update

• EPSCoR Engagement and Collaboration

• Expanding NSF INTERN

• Translation and Impacts of Future Manufacturing Research.

• Reports from Advisory Committee Liaisons

• Strategic Recommendations for ENG

• Preparation for Discussion with the Director's Office

Friday, April 5, 2024

• REU and RET sites and industry collaboration

• Preparation for Discussion with the Director's Office

• Perspective from the Director's Office

• Strategic Recommendations for ENG

• Closing Remarks

Dated: March 1, 2024.
Crystal Robinson,
Committee Management Officer.

[FR Doc. 2024-04790 Filed 3-6-24; 8:45 am]

BILLING CODE 7555-01-P